FEDERAL EMERGENCY MANAGEMENT AGENCY

44 CFR Part 67

[Docket No. FEMA B-7407]

Proposed Flood Elevation Determinations

AGENCY: Federal Emergency Management Agency (FEMA).

ACTION: Proposed Rule.

SUMMARY: Technical information or comments are requested on the proposed base (1% annual chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements. Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

§ 67.4 [Amended]

2. The tables published under the authority of § 67.4 are proposed to be amended as follows:

State | City/town/county | Source of flooding | Location | #Depth in feet above ground. *Elevation in feet. (NGVD): Existing | #Depth in feet above ground. *Elevation in feet. (NGVD): Modified
Alaska | Shishmaref (City) Nome Division | Chukchi Sea | Approximately 3,140 feet west of Old Gravel Airstrip along north shore of Sarichef Island | None | ¹ 8
|  |  | Approximately 400 feet east of Old Gravel Airstrip along north shore of Sarichef Island | None | ¹ 8
|  | Shishmaref Inlet | Approximately 1,100 feet east of Old Gravel Airstrip along south shore of Sarichef Island | None | ¹ 5
|  |  | Approximately 3,140 feet west of Old Gravel Airstrip along south shore of Sarichef Island | None | ¹ 8
Maps are available for inspection at the Shishmaref City Hall, Shishmaref, Alaska.
Send comments to The Honorable Daniel Iyatunguk, Mayor, City of Shishmaref, P.O. Box 83, Shishmaref, Alaska 99772.
Nevada | Washoe County (Unincorporated Areas) | Galena Creek | Approximately 12,000 feet downstream of Joy Lake Road | None | # 3
|  |  | Approximately 1,950 feet downstream of Joy Lake Road | None | *5,840
|  |  | Approximately 1,000 feet upstream of Joy Lake Road | None | *6,830
|  |  | At Mount Rose Highway | None | # 2
|  | Jones Creek | At confluence with Galena Creek | None | # 3
|  |  | At Callahan Ranch Road | None | *5,450
|  |  | Approximately 2,600 feet upstream of Bordeaux Drive | None | *5,888
|  |  | At Mount Rose Highway | None | # 1
Maps are available for inspection at Washoe County Engineering, 1001 E. 9th Street, Reno, Nevada.
Send comments to The Honorable Ted Short, Chairman, Washoe County Commission, 1001 E. 9th Street, Reno, Nevada 89512.
New Mexico | Red River (Town) Toas County | Bitter Creek | Approximately 220 feet downstream of East River Street | None | *8,654
|  |  | Approximately 760 feet upstream of East High Street | None | *8,691
|  | Mallette Creek | Approximately 340 feet downstream of West Main Street | None | *8,632
|  |  | Approximately 180 feet downstream of Mallette Canyon Park Road | None | *8,656
| Red River (Town) Toas County | Red River | Approximately 100 feet downstream of High Cost Trail | None | *8,608
|  |  | Approximately 1,500 feet upstream of Fishing Pond Bridge | None | *8,778
Maps are available for inspection at 100 East Main Street, Red River, New Mexico.
Send comments to The Honorable Craig Swaggerty, Mayor, Town of Red River, P.O. Box 1020, Red River, New Mexico 87558.
Oklahoma | Creek County (Unincorporated) | Polecat Creek | Just upstream of 33rd West Avenue | None | *663
|  |  | Approximately 4,000 feet upstream of Burlington Northern Railroad | None | *667
|  | Rock Creek | At confluence of Polecat Creek | None | *666
|  |  | Approximately 1,100 feet downstream of Lake Sahoma Den Outlet | None | *694
|  | Nickel Creek | Just upstream of 33rd West Avenue | None | *636
|  |  | Approximately 3,500 feet upstream of 66th Street | None | *712
Maps are available for inspection at the County Courthouse, 317 East Lee, Sapulpa, Oklahoma.
Send comments to The Honorable Johnny Burke, Chairman, Creek County Board of Commissioners, 317 East Lee, Suite 103, Sapulpa, Oklahoma 74066.
Oklahoma | Jenks (City) Tulsa County | Wilmott Creek | Northwest of intersection of 101st Street and Sunbelt Railway | *614 | *612
|  |  | Approximately 100 feet downstream of 91st Street | *614 | *613
Maps are available for inspection at 211 North Elm, Jenks, Oklahoma.
Send comments to The Honorable Mike Tucker, Mayor, City of Jenks, P.O. Box 2007, Jenks, Oklahoma 74037.
Oklahoma | Logan County (Unincorporated Areas) | Chisholm Creek | Approximately 2,200 feet downstream of Waterloo Road Just downstream of Waterloo Road | *1,014 *1,015 | *1,014 *1,016
|  | Coon Creek | Just upstream of Waterloo Road | None | *969
|  |  | Approximately 100 feet upstream of Waterloo Road | None | *970
Maps are available for inspection at the Logan County Courthouse, 301 East Harrison, Guthrie, Oklahoma.
Send comments to The Honorable Joe Hall, Chairman, Logan County Board of Commissioners, 301 East Harrison, Guthrie, Oklahoma 73044.
Oklahoma (cont'd) | Muskogee County and Incorporated Areas | Arkansas River (Lower Reach) | Just upstream of Interstate Highway 40 Approximately 4,000 feet downstream of U.S. Highway 64 Just north of U.S. Highway 64 Approximately 3,500 feet downstream of Webbers Falls Lock and Dam | None *481 *482 None | *476 *479 *480 *483
|  | Dirty Creek | Approximately 700 feet downstream of Route 100 | None | *485
|  |  | Approximately 500 feet upstream from intersection of Muskogee Turnpike and Interstate 40 | None | *487
Maps for the unincorporated areas of Muskogee County are available for inspection at the Muskogee County Courthouse, 1300 South Cherokee, Muskogee, Oklahoma.
Send comments to The Honorable Bruce Crittenden, Chairperson, Muskogee County Board of Commissioners, Muskogee County Courthouse, 1300 South Cherokee, Muskogee, Oklahoma 74403.
Maps for the Town of Webbers Falls are available for inspection at the Webbers Falls City Hall, 100 River Street, Webbers Falls, Oklahoma.
Send comments to The Honorable Jewell Horne, Mayor, Town of Webbers Falls, P.O. Box 216, Webbers Falls, Oklahoma 74470.
Oklahoma | Sapulpa (City) Creek County | Nickel Creek | Approximately 3,000 feet downstream of Land Road | None | *663
|  |  | Approximately 300 feet upstream of Tulsa Sapulpa Union Railroad | None | *695
|  | Polecat Creek | Approximately 4,000 feet downstream of Hilton Road | None | *649
|  |  | Approximately 8,000 feet upstream of Hilton Road | *653 | *654
|  |  | Just upstream of Route 117 | *662 | *662
|  |  | Just downstream of alternate Route 75 | *667 | *667
|  | Rock Creek | Approximately 3,300 feet upstream of the confluence with Polecat Creek | *667 | *667
|  |  | Just downstream of Old Highway 66 | *676 | *678
|  |  | Just downstream of Turner Turnpike | *682 | *684
Maps are available for inspection at 425 East Dewey, Sapulpa, Oklahoma.
Send comments to The Honorable Brian Bingman, Mayor, City of Sapulpa, P.O. Box 1130, Sapulpa, Oklahoma 74067.
| Sequoyah County and Incorporated Areas | Arkansas River | Just above Highway 40 | *477 | *476
|  |  | Approximately 4,200 feet upstream of Route 100—U.S. Highway 64 | None | *481
|  |  | Western corporate limits just south of the Union Pacific Railroad | None | *481
Maps for the unincorporated areas of Sequoyah County are available for inspection at the Sequoyah County Courthouse, 120 East Chickasaw, Sallisaw, Oklahoma.
Send comments to The Honorable Cleon Harrell, Chairman, Sequoyah County Board of Commissioners, 117 South Oak Street, Sallisaw, Oklahoma 74037.
Maps for the Town of Gore are available for inspection at the Town Municipal Building, 8th and South Main Streets, Gore, Oklahoma 74435.
Send comments to The Honorable Bill Summers, Mayor, Town of Gore, P.O. Box 181, Gore, Oklahoma 74435.
Texas | Vernon (City) Wilbarger County | Pease River Tributary 1 | Approximately 100 feet downstream of Harrison Street | None | +1,206
|  |  | Approximately 2,400 feet upsteram of Brewer Street | None | +1,231
|  | Pease River Tributary 2 | Approximately 100 feet downstream of the BN&SF Railroad | None | +1,200
|  |  | Just upstream of U.S. Highway 287 | None | +1,219
Maps are available for inspection at the City of Vernon City Hall, 1725 Wilbarger Street, Vernon, Texas.
Send comments to The Honorable Kelly Couch, Mayor, City of Vernon, 1725 Wilbarger Street, Vernon, Texas 76384.
¹ Mean Sea Level

(Catalog of Federal Domestic Assistance No. 83.100, “Flood Insurance.”)

Dated: November 27, 2000.
Michael J. Armstrong,
Associate Director for Mitigation.

[FR Doc. 00-30868 Filed 12-4-00; 8:45 am]

BILLING CODE 6718-04-P